DEPARTMENT OF COMMERCE

Economic Development Administration

Notice of Petitions by Producing Firms for Determination of Eligibility To Apply for Trade Adjustment Assistance

AGENCY: Economic Development Administration (EDA), Commerce.

ACTION: To give all interested parties an opportunity to comment.

Petitions have been accepted for filing on the dates indicated from the firms listed below.

List of Petition Action by Trade Adjustment Assistance for Period June 19, 2004-July 23, 2004
Firm name | Address | Date petition accepted | Product
Engine Monitor, Inc | 191 James Drive West, St. Rose, LA 70087 | 28-Jun-04 | Process control instruments.
MUM Industries, Inc | 3900 Ben Hur Avenue #3, Willoughby, OH 44094 | 28-Jun-04 | Air purification equipment.
W. A. Whitney Co | 650 Race Street, Rockford, IL 61101 | 28-Jun-04 | Punch/plasma machine for punching hole in and shearing metal.
The Allen Company | P. O. Box 217, Blanchester, OH 45107 | 6-Jul-04 | Imprinted ceramic mugs and other advertising specialty items such as ashtrays, tiles, cups, candles, glasses, decals and key chains.
Collegiate Furnishings | 280 Reese Road, State College, PA 16801 | 6-Jul-04 | Wooden bedroom furniture.
Hoffco/Comet Industries, Inc | 358 N.W. F Street, Richmond, IN 47374 | 6-Jul-04 | Transmission components for washing machines and go-kart/utility vehicles.
MAG Jewelry Co., Inc | 838 Dyer Avenue, Cranston, MA 02920 | 6-Jul-04 | Base and precious metal pins, pendants lockets, necklaces and bracelets.
Tompkins Brothers Company, Inc | 623 Oneida Street, Syracuse, NY 13202 | 6-Jul-04 | Knitting machines.
ZacBac Apparel, LLC | 100 Factory Road, Marshall, AR 72650 | 6-Jul-04 | Uniforms and apparel.
Creative Graphics | 191 James Drive West, St. Rose, LA 70087 | 9-Jul-04 | Engraved products.
Toolander Engineering, Inc | 1110 Via Callejon, San Clemente, CA 92673 | 9-Jul-04 | Custom metal stamped parts for lighting and technology industries.
Alamo Stamping Co., Inc | 812 North 907 FM Road, Alamo, TX 78516 | 20-Jul-04 | Parts for electrical machines including contacts, heatsinks and shields.
Buck's Bags, Inc | 2401 West Main Street, Boise, ID 83702 | 20-Jul-04 | Travel and sports bags.
Mid-America Fittings, Inc | 7604 Wedd, Overland Parks, KS 66204 | 20-Jul-04 | Brass nipples and fittings and steel fittings.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7315, Economic Development Administration, U.S. Department of Commerce, Washington, DC 20230, no later than the close of business of the tenth calendar day following the publication of this notice. The Catalog of Federal Domestic Assistance official program number and title of the program under which these petitions are submitted is 11.313, Trade Adjustment Assistance.

Dated: July 23, 2004.
Brenda A. Johnson,
Senior Technical Assistance Specialist.

[FR Doc. 04-17278 Filed 7-28-04; 8:45 am]

BILLING CODE 3510-24-P